INTERNATIONAL TRADE COMMISSION

[Investigation No. 337-TA-1047]

Certain Semiconductor Devices and Consumer Audiovisual Products Containing the Same; Commission Determination Not To Review an Initial Determination Granting Steptoe & Johnson LLP's Motion To Intervene for the Limited Purpose of Responding to a Disqualification Motion

AGENCY: U.S. International Trade Commission.

ACTION: Notice.

SUMMARY: Notice is hereby given that the U.S. International Trade Commission has determined not to review an initial determination (“ID”) (Order No. 7) issued by the presiding administrative law judge (“ALJ”) on May 31, 2017, granting Steptoe & Johnson LLP's (“Steptoe”) motion to intervene for the limited purpose of responding to a disqualification motion.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (https://www.usitc.gov). The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on April 12, 2017, based on a complaint filed by Broadcom Corporation (“Broadcom”) of Irvine, California. 82 FR 17688. The complaint alleges violations of section 337 of the Tariff Act of 1930, as amended, 19 U.S.C. 1337 (“section 337”), in the importation into the United States, the sale for importation, and the sale within the United States after importation of certain semiconductor devices and consumer audiovisual products containing the same that infringe U.S. Patent Nos. 7,310,104; 7,342,967; 7,590,059; 8,068,171; and 8,284,844. Id. The Commission's notice of investigation named as respondents MediaTek Inc. of Hsinchu City, Taiwan; MediaTek USA Inc. of San Jose, California; MStar Semiconductor Inc. of ChuPei Hsinchu Hsien, Taiwan; Sigma Designs, Inc. of Fremont, California; LG Electronics Inc. of Seoul, Republic of Korea and LG Electronics U.S.A., Inc. of Englewood Cliffs, New Jersey (together, “LG”); Funai Electric Company, Ltd., of Osaka, Japan; Funai Corporation, Inc. of Rutherford, New Jersey; P&F USA, Inc. of Alpharetta, Georgia; and Vizio, Inc., of Irvine, California. Id. The Office of Unfair Import Investigations is not participating in this investigation. Id.

On May 22, 2017, LG moved to disqualify Broadcom's counsel, Steptoe, based on an alleged conflict of interest caused by Steptoe's representation of LG. On May 24, 2017, Steptoe filed an unopposed motion to intervene for the limited purpose of responding to the disqualification motion.

On May 31, 2017, the ALJ issued the subject ID, granting Steptoe's motion. No petitions for review of the ID were filed.

The Commission has determined not to review the subject ID.

The authority for the Commission's determination is contained in section 337 of the Tariff Act of 1930, as amended (19 U.S.C. 1337), and in part 210 of the Commission's Rules of Practice and Procedure (19 CFR part 210).

By order of the Commission.
Issued: June 15, 2017.
Lisa R. Barton,
Secretary to the Commission.

[FR Doc. 2017-12895 Filed 6-20-17; 8:45 am]

BILLING CODE 7020-02-P